DEPARTMENT OF COMMERCE

Census Bureau

Agency Information Collection Activities; Submission to the Office of Management and Budget (OMB) for Review and Approval; Comment Request; Quarterly Summary of State & Local Government Tax Revenues

AGENCY: Census Bureau, Commerce.

ACTION: Notice of Information Collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revisions of the Quarterly Summary of State & Local Government Tax Revenues, prior to the submission of the information collection request (ICR) to OMB for approval.

DATES: To ensure consideration, comments regarding this proposed information collection must be received on or before March 16, 2021.

ADDRESSES: Interested persons are invited to submit written comments by email to Thomas.J.Smith@census.gov. Please reference Quarterly Summary of State & Local Government Tax Revenues in the subject line of your comments. You may also submit comments, identified by Docket Number USBC-2020-0035, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kristina Pasquino-Frates, Chief, State Finance and Tax Statistics Branch, Economy-Wide Statistics Division, U.S. Census Bureau, Headquarters, 5K071, Washington, DC 20233; email: Kristina.marie.pasquino.frates@census.gov, by phone: 301-763-5034.

SUPPLEMENTARY INFORMATION:

I. Abstract

The Census Bureau conducts the Quarterly Summary of State and Local Government Tax Revenue, using the F-71 (Quarterly Survey of Property Tax Collections), F-72 (Quarterly Survey of State Tax Collections), and F-73 (Quarterly Survey of Non-Property Taxes) forms. The Quarterly Summary of State and Local Government Tax Revenue provides quarterly estimates of state and local government tax revenue at the national level, as well as detailed tax revenue data for individual states. The information contained in this survey is the most current information available on a nationwide basis for state and local government tax collections.

The Census Bureau needs state and local tax data to publish benchmark statistics on taxes, to provide data to the Bureau of Economic Analysis for Gross Domestic Product (GDP) calculations and other economic indicators, and to provide data for economic research and comparative studies of governmental finances. Tax collection data are used to measure economic activity for the Nation as a whole, as well as for comparison among the various states. Economists and public policy analysts use the data to assess general economic conditions and state and local government financial activities.

The Census Bureau plans to revise the F-72 (Quarterly Survey of State Tax Collections). We plan to add the collection of cannabis and sports betting sales taxes. Sports betting will include pari-mutuels, which were previously shown separately. This will modernize the survey's content to maintain the relevancy and sustainability of these data. License taxes will no longer be collected on a quarterly basis; they will continue to be provided on an annual basis through the related Annual Survey of State Tax Collections, reducing duplication of effort. Additionally, cognitive testing showed the addition and removal of questions did not impact overall response time.

II. Method of Collection

For the Quarterly Survey of Property Tax Collections (Form F-71) the Census Bureau will mail letters quarterly to a sample of approximately 5,500 local tax collection agencies, known to have substantial collections of property tax, requesting their online data submissions.

For the Quarterly Survey of State Tax Collections (Form F-72) the Census Bureau will email letters to each of the 50 state governments and the District of Columbia quarterly requesting their online data submissions or continued coordinated submission through the state government revenue office.

For the Quarterly Survey of Non-Property Taxes (Form F-73) the Census Bureau will mail letters quarterly to a sample of approximately 1,800 local tax collection agencies, known to have substantial collections of local general sales and/or local individual/corporation net income taxes, requesting their online data submissions.

F-71 and F-73 survey data will be collected via the internet. Data for the F-72 survey are collected via email or compilation of data in coordination with the state government revenue office.

In addition to reporting current quarter data, respondents may report data for the previous eight quarters or submit revisions to their previously submitted data. In the event that a respondent cannot report online, they may request a form.

In those instances when the Census Bureau are not able to obtain a response, follow-up operations will be conducted using email and phone calls. Nonresponse weighting adjustments are used to adjust for any unreported units in the sample. These adjustments are based on the latest available data.

III. Data

OMB Control Number: 0607-0112.

Form Number(s): F-71, F-72, F-73.

Type of Review: Regular submission, Request for a Revision of a Currently Approved Collection.

Affected Public: State and Local Governments and the Government of the District of Columbia.

Estimated Number of Respondents: 7,351.

Estimated Time per Response: F-71 = 15 minutes, F-72 = 30 minutes, F-73 = 20 minutes.

Estimated Total Annual Burden Hours: 8002 hours.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C., Sections 161 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00872 Filed 1-14-21; 8:45 am]

BILLING CODE 3510-07-P